DEPARTMENT OF COMMERCE

International Trade Administration

[A-351-845]

Certain Hot-Rolled Steel Flat Products From Brazil: Rescission of Antidumping Duty Administrative Review: 2018-2019

AGENCY: Enforcement and Compliance, International Trade Administration, Department of Commerce.

SUMMARY: The Department of Commerce (Commerce) is rescinding the administrative review of the antidumping duty (AD) order on certain hot-rolled steel flat products from Brazil for the period of review (POR) October 1, 2018 through September 30, 2019, based on the timely withdrawal of the request for review.

DATES: Applicable February 26, 2020.

FOR FURTHER INFORMATION CONTACT: William Langley, AD/CVD Operations, Office I, Enforcement and Compliance, International Trade Administration, U.S. Department of Commerce, 1401 Constitution Avenue NW, Washington, DC 20230; telephone: (202) 482-3861.

SUPPLEMENTARY INFORMATION:

Background

On October 1, 2019, Commerce published a notice of opportunity to request an administrative review of the antidumping duty order on certain hot-rolled steel flat products (hot-rolled steel) from Brazil for the POR of October 1, 2018 through September 30, 2019.¹ United States Steel Corporation, Steel Dynamics, Inc., and SSAB Enterprises, LLC (collectively, the domestic interested parties) timely filed a request for administrative review of the following Brazilian exporters/producers of hot-rolled steel: AG Royce Metal Marketing; Aperam South America; Companhia Siderurgica Nacional; Companhia Siderurgica Suape; Cummins Inc.; Erico Incorporated; Gautier Steel Limited; Gerdau Acominas S.A.; Mahle Engine Components USA Inc.; Mahle Metal Leve S.A.; Marcegaglia do Brasil; Modine do Brasil Sistemas Termicos; Nvent do Brasil Eletrometalurgica Ltda.; Nvent Erico; Optimus Steel Inc.; Ternium Brasil Ltda.; Ternium Mexico S.A. de C.V.; and Usinas Siderurgicas de Minas Gerais S.A. (Usiminas), in accordance with section 751(a) of the Tariff Act of 1930, as amended (the Act), and 19 CFR 351.213(b).²

¹ See Antidumping or Countervailing Duty Order, Finding, or Suspended Investigation; Opportunity to Request Administrative Review, 84 FR 52068 (October 1, 2019).

² See domestic interested parties' letter, “Hot-Rolled Steel Flat Products from Brazil: Request for Administrative Review of Antidumping Duty Order,” dated October 31, 2019.

On December 11, 2019, pursuant to these requests and in accordance with 19 CFR 351.221(c)(1)(i), Commerce published a notice initiating an administrative review of the antidumping order on hot-rolled steel from Brazil with respect to all 18 companies for which a review was requested.³ On February 10, 2020, the domestic interested parties withdrew their request for an administrative review with respect to all of the companies for which they had requested a review.⁴

³ See Initiation of Antidumping and Countervailing Duty Administrative Reviews, 84 FR 67712 (December 11, 2019).

⁴ See domestic interested parties' letter, “Hot-Rolled Steel Flat Products from Brazil: Withdrawal of Request for Administrative Review of Antidumping Duty Order,” dated February 10, 2020.

Rescission of Review

Pursuant to 19 CFR 351.213(d)(1), Commerce will rescind an administrative review, in whole or in part, if the party or parties that requested a review withdraws the request within 90 days of the publication date of the notice of initiation of the requested review. The domestic interested parties withdrew their request for review of all of the Brazilian producers/exporters of hot-rolled steel for which they had requested an administrative review, within 90 days of the publication date of the notice of initiation. No other parties requested an administrative review of the order. Therefore, in accordance with 19 CFR 351.213(d)(1), we are rescinding this review in its entirety.

Assessment

Commerce will instruct U.S. Customs and Border Protection (CBP) to assess antidumping duties on all appropriate entries of hot-rolled steel from Brazil. Antidumping duties shall be assessed at rates equal to the cash deposit of estimated antidumping duties required at the time of entry, or withdrawal from warehouse, for consumption in accordance with 19 CFR 351.212(c)(1)(i). Commerce intends to issue appropriate assessment instructions to CBP 15 days after the date of publication of this notice in the Federal Register.

Notification to Importers

This notice serves as a reminder to importers of their responsibility under 19 CFR 351.42(f)(2) to file a certificate regarding the reimbursement of AD duties prior to liquidation of the relevant entries during this review period. Failure to comply with this requirement could result in Commerce's presumption that reimbursement of AD duties occurred and the subsequent assessment of doubled AD duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issues and published in accordance with sections 751(a)(1) and 777(i)(1) of the Act, and 19 CFR 351.213(d)(4).

Dated: February 20, 2020,
James Maeder,
Deputy Assistant Secretary for Antidumping and Countervailing Duty Operations.

[FR Doc. 2020-03815 Filed 2-25-20; 8:45 am]

BILLING CODE 3510-DS-P